DEPARTMENT OF DEFENSE

Department of the Navy

Notice of Availability and Notice of Public Meeting of the Draft Environmental Impact Statement (DEIS) for the Development of the Westside of Marine Corps Base Quantico, Including the 2005 Base Realignment and Closure (BRAC) Action at Marine Corps Base Quantico, Virginia

AGENCY: Department of the Navy, Department of Defense.

ACTION: Notice of Availability (NOA) and public meeting.

SUMMARY: In accordance with Section 102(2)(C) of the National Environmental Policy Act of 1969 (42 U.S.C. 4332(2)(C)), as implemented by the Council on Environmental Quality Regulations (40 CFR parts 1500-1508), the Department of the Navy (DON), and Marine Corps Base Quantico (MCBQ) announces the availability of the DEIS, which evaluates the environmental effects of development of the Westside of MCBQ to accommodate approximately 3,000 personnel directed to MCBQ by the 2005 BRAC law, and potential development within the Westside to accommodate up to 2,000 additional personnel, or 5,000 personnel total including BRAC, to support other Marine Corps requirements.

DATES: The public comment period for the DEIS will end 45 days after publication of an NOA in the Federal Register by the Environmental Protection Agency. All comments must be received by 4 September 2007.

ADDRESSES: Please send written comments on the DEIS to: Jeff Gardner, NREA Branch (B046), 3250 Catlin Avenue, Marine Corps Base, Quantico, VA 22134-0855. E-mail comments should be sent to jeff.gardner@usmc.mil.

FOR FURTHER INFORMATION CONTACT: Mr. Jeff Gardner 703-432-6784 during normal business hours Monday through Friday.

SUPPLEMENTARY INFORMATION: The Marine Corp Base Quantico, Virginia proposes development of the Westside of MCBQ, including the 2005 Base Realignment and Closure (BRAC) action at MCBQ. The development would entail construction of new facilities in two undeveloped areas west of Interstate 95. These areas, the Russell Road Area and the MCB-1 Area, would co-locate Military Department Investigative Agency Headquarters with the Counterintelligence Field Activity and Defense Security Service at MCBQ as directed by the 2005 BRAC law. The areas would also provide adequate space for facilities to support Marine Corps units currently at MCBQ, as well as potentially other federal and Marine Corps initiatives that may identify MCBQ as a site for relocation.

This DEIS identifies and evaluates the potential environmental impacts of (1) Alternative A (BRAC Action), the relocation of approximately 3,000 personnel directed to MCBQ by the BRAC Law; (2) Alternative B, the relocation of an additional 2,000 personnel for a total of 5,000 personnel, including those under Alternative A; and (3) the No Action Alternative. Under both Alternatives A and B, two sites for the BRAC action, one located in the southern portion of the Russell Road Area, and the other in the northern portion of the MCB-1 Area, are analyzed as the BRAC site options (BRAC Option 1 (Russell Road) and BRAC Option 2 (MCB-1)).

The Notice of Intent (NOI) published for this EIS in the Federal Register on 3 August 2006 identified five alternatives, including the no action alternative, for analysis in this EIS. In addition to Alternatives A and B, the NOI indicated that a high intensity development alternative would be assessed that would add up to 10,000 personnel, including 3,000 under BRAC, and a medium intensity development alternative would be assessed that would add up to 7,000 personnel, including 3,000 under BRAC. Following a preliminary assessment of the proposed sites west of I-95 and further examination of known requirements, only Alternatives A and B were carried forward for analysis.

At this time, a preferred alternative has not been selected. The DEIS analysis indicate that the increased level of development and personnel under Alternative B compared to Alternative A would be expected to cause a commensurate increase in the level of impacts.

The DEIS finds that traffic impacts at base access points are similar for both alternatives. Major MCBQ access points currently perform unacceptably and regional growth will further degrade intersections unless improvements are made. Alternatives have unacceptable levels of service at U.S. Route 1 and I-95 intersections, and at proposed development sites. The DEIS identifies traffic mitigation measures.

The DEIS also finds that the amount of development from the proposed alternatives is small compared to the amount of undeveloped land that would remain, largely forested, minimizing impacts to natural resources. There would be no effect to threatened and endangered species; however, alternatives could impact a small amount of wetlands. The DEIS finds that potential regional growth from either alternative is not large compared to projected growth already expected for the surrounding region and the resulting socioeconomic impacts from either alternative are less than significant. Potential impacts, such as noise, caused by proximity to military training activities that would remain in the Westside, can be acceptably minimized in the facility design process, and development is a compatible land use at the proposed sites. The sites avoid impacting cultural resources and air emissions are not expected to exceed the thresholds established for general conformity to state implementation plans or to require a new source review.

The DEIS has been distributed to various federal, state, and local agencies, elected officials, special interest groups, and interested parties. The DEIS is also available for public review at the following local libraries: Central Rappahannock Regional Library, Dumfries Neighborhood Library, and the Prince William Public Library System. The DEIS is also available at the following Web site: http://www.quantico.usmc.mil/activities/display.aspx?PID=1814&Section=NREA. The Marine Corps invites the general public, local governments, other federal agencies, and state agencies to submit written comments or suggestions concerning the alternatives and analysis addressed in the DEIS. The public and government agencies are invited to participate in the public meetings where oral and written comments will be received. Two public meetings will be held. The first public meeting will be held on 6 August 2007 from 7:30 p.m. to 9:30 p.m. at the Stafford County Government Center Board Room, 1300 Courthouse Road, Stafford, VA. The second public meeting will be held on 13 August 2007 from 6:30 p.m. to 9:30 p.m. at the Doctor A. J. Ferlazzo Building, 15941 Donald Curtis Drive, Prince William, VA. All comments must be received by 4 September 2007.

Dated: July 16, 2007.
L.R. Almand,
Office of the Judge Advocate General, U.S. Navy, Administrative Law Division, Federal Register Liaison Officer.

[FR Doc. E7-14126 Filed 7-19-07; 8:45 am]

BILLING CODE 3810-FF-P